DEPARTMENT OF EDUCATION

Office of Postsecondary Education; Overview Information Student Support Services (SSS) Program; Notice Inviting Applications for New Awards for Fiscal Year (FY) 2005

Correction

In notice document 04-15471 beginning on page 41235 in the issue of Thursday, July 8, 2004, make the following corrections:

1. On page 41235, in the first column, in the eighth line, under the item titled “Deadline for Intergovernmental Review, ” “September 7, 2004” should read “November 1, 2004.”

2. On page 41236, in the second column, in the third line from the bottom, “September 7, 2004” should read “November 1, 2004.”

[FR Doc. C4-15471 Filed 7-14-04; 8:45 am]

BILLING CODE 1505-01-D

DEPARTMENT OF JUSTICE

Antitrust Division

Notice Pursuant to the National Cooperative Research and Production Act of 1993-USB Flash Drive Alliance (“UFDA”)

Correction

In notice document 04-3066 appearing on page 7014 in the issue of Thursday, February 12, 2004, the subject heading is corrected to read as set forth above.

[FR Doc. C4-3066 Filed 7-14-04; 8:45 am]

BILLING CODE 1505-01-D